SMALL BUSINESS ADMINISTRATION

[Declaration of Disaster #3415]

Commonwealth of Kentucky

As a result of the President's major disaster declaration on May 7, 2002, I find that Breckinridge, Crittenden, Grayson, Hancock, Hardin, Henderson, Hopkins, McLean, Meade, Ohio, Union and Webster Counties in the Commonwealth of Kentucky constitute a disaster area due to damages caused by severe storms, tornadoes and flooding occurring on April 27, 2002 and continuing. Applications for loans for physical damage as a result of this disaster may be filed until the close of business on July 6, 2002 and for economic injury until the close of business on February 7, 2003 at the address listed below or other locally announced locations: U.S. Small Business Administration, Disaster Area 2 Office, One Baltimore Place, Suite 300, Atlanta, GA 30308.

In addition, applications for economic injury loans from small businesses located in the following contiguous counties may be filed until the specified date at the above location: Bullitt, Butler, Caldwell, Christian, Daviess, Edmonson, Hart, Larue, Livingston, Lyon, Muhlenberg and Nelson in the Commonwealth of Kentucky; Gallatin and Hardin Counties in the State of Illinois; Crawford, Harrison, Perry, Posey, Spencer, Vanderburgh and Warrick Counties in the State of Indiana.

The interest rates are:

| Percent
For Physical Damage:
Homeowners with credit available elsewhere | 6.750
Homeowners without credit available elsewhere | 3.375
Businesses with credit available elsewhere | 7.000
Businesses and non-profit organizations without credit available elsewhere | 3.500
Others (including non-profit organizations) with credit available elsewhere | 6.375
For Economic Injury: Businesses and small agricultural cooperatives without credit available elsewhere | 3.500

The number assigned to this disaster for physical damage is 341511. For economic injury the number is 9P5800 for Kentucky; 9P5900 for Illinois; and 9P6000 for Indiana.

(Catalog of Federal Domestic Assistance Program Nos. 59002 and 59008)

Dated: May 8, 2002.
Herbert L. Mitchell,
Associate Administrator, For Disaster Assistance.

[FR Doc. 02-12074 Filed 5-14-02; 8:45 am]

BILLING CODE 8025-01-P